DEPARTMENT OF DEFENSE

GENERAL SERVICES ADMINISTRATION

NATIONAL AERONAUTICS AND SPACE ADMINISTRATION

48 CFR Parts 5 and 15

Federal Acquisition Regulation; Publicizing Contract Actions; Contracting by Negotiation

CFR Correction

In Title 48 of the Code of Federal Regulations, Chapter 1 (Parts 1 to 51), revised as of October 1, 2012, on page 115, in section 5.601, in paragraph (b)(2), reinstate the end of the paragraph to read “that were awarded before July 24, 2003.”; and on page 311, in section 15.404-1, reinstate paragraph (c)(2)(vi) to read as follows:

15.404-1 Proposal analysis techniques.

* * * * *

(c) * * *

(2) * * *

(vi) Analysis of the results of any make-or-buy program reviews, in evaluating subcontract costs (see 15.407-2).

* * * * *

[FR Doc. 2013-16642 Filed 7-9-13; 8:45 am]

BILLING CODE 1505-01-D